DEPARTMENT OF ENERGY

Federal Energy Regulatory Commission

[Project No. 13431-000]

Resilient Energy LLC; Notice of Preliminary Permit Application Accepted for Filing and Soliciting Comments, Motions To Intervene, and Competing Applications

July 27, 2009.

On April 13, 2009, Resilient Energy LLC (Resilient) filed an application, pursuant to section 4(f) of the Federal Power Act (FPA), proposing to study the feasibility of the Thomaston Dam Project. The Thomaston Dam Project would be located on the Naugatuck River at the U.S. Army Corps of Engineers' Thomaston Dam in the town of Thomaston, Litchfield County, Connecticut.

The proposed Thomaston Dam Project would consist of: (1) One or more turbine generator units with a total installed capacity of 2,750 kilowatts; (2) a 3-mile-long transmission line; and (3) appurtenant facilities. The project would have an estimated annual generation of 4,850 megawatt-hours.

Applicant Contact: Mr. Hoon T. Won, 9 Benedict Place, 2nd Floor, Greenwich, Connecticut 06830; (203) 340-2517.

FERC Contact: Patrick Murphy, (202) 502-8755.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13431) in the docket number field to access the document. For assistance, call toll-free 1-866-208-3372.

Kimberly D. Bose,
Secretary.

[FR Doc. E9-18296 Filed 7-30-09; 8:45 am]

BILLING CODE 6717-01-P